Proclamation 7472 of September 28, 2001

National Historically Black Colleges and Universities Week, 2001

By the President of the United States of America

A Proclamation

For more than a century, our Nation's Historically Black Colleges and Universities (HBCUs) have played a vital role in providing opportunities for excellence in higher education to millions of African American students.

Throughout their history, these institutions of higher learning persevered in the face of many obstacles, offering university degrees to African Americans at a time when most schools refused them admission. Some of our HBCUs began when society was deeply segregated; and some were founded when the Nation still permitted the scourge of slavery. The Civil War eradicated slavery in America; and the United States Supreme Court ended the racial segregation of our schools. Notwithstanding the removal of these blights from the American scene, HBCUs have remained committed to providing African American students with extraordinary educational opportunities. The HBCUs' consistent tradition of offering high-quality, academic programs has enabled their students and graduates to prosper.

The success of our HBCUs should be a source of great pride for all Americans. Almost 300,000 African Americans currently are enrolled in HBCUs, and among their graduates are Members of Congress, hundreds of elected officials, military officers, physicians, teachers, attorneys, judges, ambassadors, and business executives.

Committed to excellence as well as to opportunity, our HBCUs reflect the determination and spirit that are essential to achieving my Administration's goal of educational success at every level. All Americans should have opportunities to pursue the American dream. Historically Black Colleges and Universities play an essential role in providing access to that dream for African Americans, and I salute them for their continuing commitment to serving African American students.

NOW, THEREFORE, I, GEORGE W. BUSH, President of the United States of America, by virtue of the authority vested in me by the Constitution and laws of the United States, do hereby proclaim September 24 through September 30, 2001, as National Historically Black Colleges and Universities Week. I call upon the people of the United States, including government officials, educators, and administrators, to observe this week with appropriate programs, ceremonies, and activities, thereby demonstrating our appreciation of and support for these important educational institutions.

IN WITNESS WHEREOF, I have hereunto set my hand this twenty-eighth day of September, in the year of our Lord two thousand one, and of the Independence of the United States of America the two hundred and twenty-sixth.

B

[FR Doc. 01-24772

Filed 10-1-01; 8:45 am]

Billing code 3195-01-P